GENERAL SERVICES ADMINISTRATION

[Notice-PMAB-2014-02; Docket No. 2014-0002; Sequence No. 31]

The President's Management Advisory Board (PMAB); Notification of Upcoming Public Advisory Meeting

AGENCY: Office of Executive Councils, U.S. General Services Administration (GSA).

ACTION: Meeting notice.

SUMMARY: The President's Management Advisory Board (PMAB), a Federal Advisory Committee established in accordance with the Federal Advisory Committee Act (FACA), 5 U.S.C., App., and Executive Order 13538, will hold a public meeting on Friday, September 12, 2014.

DATES: Effective: August 25, 2014.

Meeting date: The meeting will be held on Friday, September 12, 2014 beginning at 10:00 a.m. Eastern Standard Time, ending no later than 1:00 p.m. Eastern Standard Time.

ADDRESSES: Eisenhower Executive Office Building, 1650 Pennsylvania Avenue NW., Washington, DC.

FOR FURTHER INFORMATION CONTACT: Mr. Stephen Brockelman, Designated Federal Officer, President's Management Advisory Board, Office of Executive Councils, General Services Administration, 1800 F Street NW., Washington, DC 20006, at stephen.brockelman@gsa.gov.

SUPPLEMENTARY INFORMATION:

Background: The PMAB was established to provide independent advice and recommendations to the President and the President's Management Council on a wide range of issues related to the development of effective strategies for the implementation of best business practices to improve Federal Government management and operation.

Agenda: The main purpose of this meeting is for the PMAB to discuss how to improve customer service in the Federal government by evolving agencies' service model design and establishing a customer service culture among the frontline workforce. The PMAB will also receive progress updates on their prior initiatives. In addition, the recently released U.S. Digital Services Strategy will be discussed for its applicability to customer service model redesign and overall efforts to transform how IT is developed and managed in Federal government.

Meeting Access: The PMAB will convene its meeting in the Eisenhower Executive Office Building, 1650 Pennsylvania Avenue NW., Washington, DC. Due to security, there will be no public admittance to the Eisenhower Building to attend the meeting. However, the meeting is open to the public; interested members of the public may view the PMAB's discussion at http://www.whitehouse.gov/live. Members of the public wishing to comment on the discussion or topics outlined in the Agenda should follow the steps detailed in Procedures for Providing Public Comments below.

Availability of Materials for the Meeting: Please see the PMAB Web site: (http://www.whitehouse.gov/administration/advisory-boards/pmab) for any materials available in advance of the meeting and for meeting minutes that will be made available after the meeting. Detailed meeting minutes will be posted within 90 days of the meeting.

Procedures for Providing Public Comments: In general, public statements will be posted on the PMAB Web site (http://www.whitehouse.gov/administration/advisory-boards/pmab). Non-electronic documents will be made available for public inspection and copying in PMAB offices at GSA, 1800 F Street NW., Washington, DC 20006, on official business days between the hours of 10 a.m. and 5 p.m. eastern standard time. You can make an appointment to inspect statements by telephoning 202-501-1398. All statements, including attachments and other supporting materials, received are part of the public record and subject to public disclosure. Any statements submitted in connection with the PMAB meeting will be made available to the public under the provisions of the Federal Advisory Committee Act.

The public is invited to submit written statements for this meeting until 12:30 p.m. eastern standard time on Thursday, September 11, 2014 by either of the following methods: Electronic or Paper Statements: Submit electronic statements to Mr. Brockelman, Designated Federal Officer at stephen.brockelman@gsa.gov; or send paper statements in triplicate to Mr. Brockelman at the PMAB GSA address above.

Dated: August 18, 2014.
Christine Harada,
Associate Administrator, Office of Government-wide Policy, General Services Administration.

[FR Doc. 2014-20125 Filed 8-22-14; 8:45 am]

BILLING CODE 6820-BR-P